DEPARTMENT OF COMMERCE

National Oceanic and Atmospheric Administration

Extension of Public Comment Period for the Notice of Intent To Conduct Scoping and To Prepare a Draft Environmental Impact Statement for the Proposed Chumash Heritage National Marine Sanctuary

AGENCY: Office of National Marine Sanctuaries (ONMS), National Ocean Service (NOS), National Oceanic and Atmospheric Administration (NOAA), Department of Commerce (DOC).

ACTION: Notice of extension of public comment period.

SUMMARY: On November 10, 2021, the National Oceanic and Atmospheric Administration (NOAA) published a Notice of Intent to conduct scoping and to prepare a draft environmental impact statement for the proposed Chumash Heritage National Marine Sanctuary. With this notice, NOAA is extending the public comment period by 21 days to January 31, 2022, to provide the public with additional time to provide comments on the Notice of Intent.

DATES: Comments must be received by January 31, 2022, as specified under ADDRESSES. Comments received after this date may not be accepted. The dates for virtual public scoping meetings are unchanged. NOAA hosted two virtual public scoping meetings on December 8 and December 13, 2021, and will conduct a third meeting at the following date and time:

• Thursday, January 6, 2022, 4 p.m.-7 p.m. Pacific Time.

NOAA may end the meeting before the time noted above if all those participating have completed their oral comments.

ADDRESSES: You may submit comments for this public scoping process by any of the following methods:

• Federal eRulemaking Portal: Go to https://www.regulations.gov and enter “NOAA-NOS-2021-0080” in the Search box. Click on the “Comment” icon, complete the required fields, and enter or attach your comments.

• Mail: Send any hard copy public comments by mail to: Paul Michel, NOAA Sanctuaries West Coast Regional Office, 99 Pacific Street, Building 100F, Monterey, CA 93940.

• Public Scoping Meeting: Provide oral comments during the remaining virtual public scoping meeting, as described under DATES. Webinar registration details and additional information about how to participate in this meeting is available at www.sanctuaries.noaa.gov/chumash-heritage.

Instructions: Comments sent by any other method, to any other address or individual, or received after the end of the comment period, may not be considered by NOAA. All comments received are a part of the public record and will generally be posted for public viewing on https://www.regulations.gov without change. All personal identifying information (for example, name, address, etc.), confidential business information, or otherwise sensitive information submitted voluntarily by the commenter will be publicly accessible. NOAA will accept anonymous comments (enter “N/A” in the required fields if you wish to remain anonymous).

FOR FURTHER INFORMATION CONTACT: Paul Michel, (831) 647-4217, paul.michel@noaa.gov, West Coast Region Policy Coordinator.

SUPPLEMENTARY INFORMATION: On November 10, 2021, NOAA issued a Notice of Intent to Conduct Scoping and to Prepare a Draft Environmental Impact Statement for the Proposed Chumash Heritage National Marine Sanctuary (“Notice of Intent”) (86 FR 62512).

With that Notice of Intent, NOAA initiated a process to consider designating a portion of waters along and offshore of the central coast of California as a national marine sanctuary, in accordance with the National Marine Sanctuaries Act, 16 U.S.C. 1431 et seq. This process is based on the area's qualities and boundaries as described in the community-based nomination ¹ submitted on July 17, 2015, excluding any geographical overlap of the boundaries proposed for the Morro Bay 399 Area as described in the July 29, 2021, Federal Register Notice of Commercial Leasing for Wind Power Development on the Outer Continental Shelf Offshore Morro Bay, California, East and West Extensions—Call for Information and Nominations (86 FR 40869).² For more information, refer to the Notice of Intent (86 FR 62512) or visit www.sanctuaries.noaa.gov/chumash-heritage.

¹ https://nominate.noaa.gov/media/documents/nomination_chumash_heritage_071715.pdf.

² https://www.federalregister.gov/documents/2021/07/29/2021-16134/commercial-leasing-for-wind-power-development-on-the-outer-continental-shelf-ocs-offshore-morro-bay.

The designation process will be conducted concurrently with a public process under the National Environmental Policy Act to prepare an environmental impact statement. This public scoping process invites comments on the scope and significance of issues to be addressed in the environmental impact statement that are related to designating this area as a national marine sanctuary. The results of this scoping process will assist NOAA in moving forward with the designation process, including preparation and release of draft designation documents, and in formulating alternatives for the draft environmental impact statement, including developing national marine sanctuary boundaries, regulations, and a management plan. This scoping process will also inform the initiation of any consultations with Federal, State, or local agencies, tribes, and other interested parties, as appropriate.

NOAA has received requests for an extension of the public comment period and has decided to extend the comment period by 21 days to provide the public with additional time to provide comments. At this time, NOAA does not expect any changes to the Schedule for the Decision-Making Process outlined in Section IV of the Notice of Intent (86 FR 62512).

Authority: 16 U.S.C. 1431 et seq.; 42 U.S.C. 4321 et seq.; 40 CFR 1500-1508 (National Environmental Policy Act Implementing Regulations); Companion Manual for NOAA Administrative Order 216-6A.

John Armor,
Director, Office of National Marine Sanctuaries, National Ocean Service, National Oceanic and Atmospheric Administration.

[FR Doc. 2021-27234 Filed 12-15-21; 8:45 am]

BILLING CODE 3510-NK-P